DEPARTMENT OF JUSTICE

Notice of Lodging of Proposed Consent Decree Under the Clean Air Act

Notice is hereby given that, for a period of 30 days, the United States will receive public comments on a proposed Consent Decree in United States et al. v. Hyundai Motor Company et al. (Civil Action No. 1:14-cv-1837), which was lodged with the United States District Court for the District of Columbia on November 3, 2014. The complaint was filed on the same day.

In the complaint, the United States seeks civil penalties and injunctive relief pursuant to Sections 203, 204, and 205 of the Clean Air Act, 42 U.S.C. 7522, 7523, and 7524, against Hyundai Motor Company, Hyundai Motor America, Kia Motors Corporation, Kia Motors America, and Hyundai America Technical Center, Inc. (collectively, “Defendants”) for violations of the Act. The California Air Resources Board joins the United States as co-plaintiff and seeks civil penalties for related violations of California Health and Safety Code Section 43212. The violations arise from the Defendants' introduction into commerce in the United States of over one million motor vehicles from model years 2012 and 2013 that were not covered by Certificates of Conformity as required by the Act and regulations promulgated thereunder. The vehicles belong to six car lines: Hyundai's Accent, Elantra, Veloster, and Santa Fe, and Kia's Soul and Rio. Under the settlement, the Defendants will pay a civil penalty of $100 million, with $93,656,600 paid to the United States, and $6,343,400 paid to the California Air Resources Board. The Defendants will also reduce the number of greenhouse gas emission credits claimed in their Averaging, Banking, and Trading reports by a total of 4.75 million credits. The Defendants are also required to perform additional corrective measures, including auditing of their vehicles and improving testing and data management practices.

The publication of this notice opens a period for public comment on the proposed Consent Decree. Comments should be addressed to the Assistant Attorney General, Environment and Natural Resources Division, and should refer to United States et al. v. Hyundai Motor Company et al. (Civil Action No. 1:14-cv-1837), D.J. Ref. No. 90-5-2-1-10753. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $11.00 (25 cents per page reproduction cost) payable to the United States Treasury.

Maureen Katz,
Assistant Section Chief, Environmental Enforcement Section, Environment and Natural Resources Division.

[FR Doc. 2014-26512 Filed 11-6-14; 8:45 am]

BILLING CODE 4410-15-P